DEPARTMENT OF ENERGY

Federal Energy Regulatory Commission

[Docket No. RP02-363-001]

North Baja Pipeline, LLC; Notice of Negotiated Rate Tariff Filing

September 5, 2002.

Take notice that on September 3, 2002, North Baja Pipeline, LLC (NBP) tendered for filing as part of its FERC Gas Tariff, Original Volume No. 1, Original Sheet No. 6 and Original Sheet No. 7.

NBP states that these sheets are being filed to reflect the implementation of two negotiated rate agreements in compliance with the Commission's January 16, 2002 Order issuing NBP a certificate of public convenience and necessity. NBP requests that these tariff sheets be made effective September 1, 2002.

NBP further states that a copy of this filing has been served on NBP's jurisdictional customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-23174 Filed 9-17-02; 8:45 am]

BILLING CODE 6717-01-P